DEPARTMENT OF THE INTERIOR

National Park Service

[NPS-WASO-NAGPRA-15435; PPWOCRADN0-PCU00RP14.R50000]

Notice of Inventory Completion: U.S. Department of the Interior, Bureau of Land Management, San Luis Field Office, Monte Vista, CO

AGENCY: National Park Service, Interior.

ACTION: Notice.

SUMMARY: The Bureau of Land Management has completed an inventory of human remains and associated funerary objects, in consultation with the appropriate Indian tribes, and has determined that there is a cultural affiliation between the human remains and associated funerary objects and present-day Indian tribes. Lineal descendants or representatives of any Indian tribe not identified in this notice that wish to request transfer of control of these human remains and associated funerary objects should submit a written request to the Bureau of Land Management. If no additional requestors come forward, transfer of control of the human remains and associated funerary objects to the Indian tribes stated in this notice may proceed.

DATES: Lineal descendants or representatives of any Indian tribe not identified in this notice that wish to request transfer of control of these human remains and associated funerary objects should submit a written request with information in support of the request to the Bureau of Land Management at the address in this notice by June 16, 2014.

ADDRESSES: Dan Haas, State Archaeologist, Bureau of Land Management, Colorado State Office, 2850 Youngfield Street, Lakewood, CO 80215-7076, telephone (303) 239-3647, email dhaas@blm.gov.

SUPPLEMENTARY INFORMATION: Notice is here given in accordance with the Native American Graves Protection and Repatriation Act (NAGPRA), 25 U.S.C. 3003, of the completion of an inventory of human remains and associated funerary objects under the control of the U.S. Department of the Interior, Bureau of Land Management, San Luis Field Office, Monte Vista, CO and in the physical custody of the University of Denver Museum of Anthropology, Denver, CO. The human remains and associated funerary objects were removed from site 5CN26 in Conejos County, CO. This notice establishes the transfer of custody from the University of Denver, Museum of Anthropology to the Bureau of Land Management, San Luis Field Office.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Denver Museum of Anthropology professional staff in consultation with representatives of the U.S. Department of Agriculture, Forest Service; the U.S. Department of the Interior, Bureau of Indian Affairs; the U.S. Department of the Interior, Bureau of Land Management, San Luis Field Office; and the Hopi Tribe of Arizona; Jicarilla Apache Nation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; and the Zuni Tribe of the Zuni Reservation, New Mexico. The University of Denver Museum of Anthropology also sent reports and solicited feedback via telephone and correspondence with representatives from the Colorado River Indian Tribes of the Colorado River Indian Reservation, Arizona and California; Kewa Pueblo, New Mexico (previously listed as the Pueblo of Santo Domingo); Pueblo of Picuris, New Mexico; Pueblo of San Felipe, New Mexico; Pueblo of San Ildefonso, New Mexico; and the Ysleta Del Sur Pueblo of Texas. Hereafter, all tribes listed in this section are referred to as “The Consulted and Notified Tribes.”

History and Description of the Remains

In 1950, human remains representing, at minimum, one individual (catalog number DU CO X:16:12) were recovered from site 5CN26 in Conejos County, CO, on public lands administered by the Bureau of Land Management, San Luis Field Office, probably by Harry Christopher Meyers, Jr., who recorded the site card and conducted a survey of the area for his master's thesis. Mr. Meyers' thesis is on file at the University of Denver, Department of Anthropology, dated May 1950. In his thesis, Mr. Meyers thanks Mr. Mercedes Ortiz, of Conejos, CO, for his aid in “the survey” of portions of the San Luis Valley. Mr. Ortiz was likely a local landowner who acted as a guide. Although the thesis provides a likely contextual framework for the areas examined and the types of sites recorded, site 5CN26 was recorded in August 1950 but is not referenced in any report. No known individual was identified. The nine associated funerary objects are seven black-on-white sherds, one obsidian core, and one chipped stone.

Black-on-white pottery indicates this site is ancestral Puebloan. The scientific literature provides significant evidence of cultural affiliation between ancestral Puebloan culture and the Pueblos of today. Mr. Meyers' thesis work was specifically looking for Puebloan sites. Additionally, a likely source for the obsidian is New Mexico, which further supports a Puebloan affiliation.

The site card describes a cave with an opening onto a flat plain, dropping down over 10 feet. The interior of the cave is reported to consist of four rooms containing dry laid stone walls, lithic debitage, and pottery sherds. The main, or upper room, is described as opening directly off of the opening. Its walls were apparently about 2½ feet high. The three other rooms appear to be contiguous, extending back inside the cave. An attempt to relocate site 5CN26 was undertaken by an unknown individual at an unknown date (presumably after the mid-1980s based on the form used). Notes of this visit to the area are recorded on a Cultural Resource Reevaluation Form on file at the Colorado Office of Archaeology and Historic Preservation. The researcher notes that the legal location data on the old site card was poor, so the southern half of the listed section and the northern half of the neighboring section were extensively searched, but “no evidence of the site could be found.”

In 1995, the University of Denver Museum of Anthropology conducted an inventory of their collections, and the site forms and maps for site 5CN26 documented that the site was located on private land. In 2012, the Bureau of Land Management field visited the location of site 5CN26 and determined that it is located on lands administered by the Bureau of Land Management. The University of Denver Museum of Anthropology will physically transfer the human remains and associated funerary objects to the Bureau of Land Management, San Luis Field Office for repatriation.

Determinations Made by the Bureau of Land Management

Officials of the Bureau of Land Management have determined that:

• Pursuant to 25 U.S.C. 3001(9), the human remains described in this notice represent the physical remains of one individual of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Kewa Pueblo, New Mexico (previously listed as the Pueblo of Santo Domingo); Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; and the Zuni Tribe of the Zuni Reservation, New Mexico.

Additional Requestors and Disposition

Lineal descendants or representatives of any Indian tribe not identified in this notice that wish to request transfer of control of these human remains and associated funerary objects should submit a written request with information in support of the request to Dan Haas, State Archaeologist, Bureau of Land Management, Colorado State Office, 2850 Youngfield Street, Lakewood, CO 80215-7076, telephone (303) 239-3647, email dhaas@blm.gov, by June 16, 2014. After that date, if no additional requestors have come forward, transfer of control of the human remains and associated funerary objects to the Hopi Tribe of Arizona; Kewa Pueblo, New Mexico (previously listed as the Pueblo of Santo Domingo); Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; and the Zuni Tribe of the Zuni Reservation, New Mexico may proceed.

The Bureau of Land Management is responsible for notifying The Consulted and Notified Tribes that this notice has been published.

Dated: March 31, 2014.
Sherry Hutt,
Manager, National NAGPRA Program.

[FR Doc. 2014-11256 Filed 5-14-14; 8:45 am]

BILLING CODE 4312-50-P